DEPARTMENT OF STATE

[Public Notice 4550]

Bureau of Political-Military Affairs; 60-Day Notice of Proposed Information Collection: Form DS-4048, Projected Sales of Major Weapons in Support of Section 25(a)(1) of the Arms Export Control Act; OMB No. 1405-XXXX

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: Existing collection in use without an OMB control number.

Originating Office: Bureau of Political-Military Affairs, Directorate of Defense Trade Controls, PM/DDTC.

Title of Information Collection: Projected Sales of Major Weapons in Support of Section 25(a)(1) of the Arms Export Control Act.

Frequency: Once a year.

Form Number: DS-4048.

Respondents: Business organizations.

Estimated Number of Respondents: 20.

Average Hours Per Response: 3 hours.

Total Estimated Burden: 60 hours.

(Total Estimated Burden based on number of reports received per year.)

Public comments are being solicited to permit the agency to:

• Evaluate whether the proposed information collection is necessary for the proper performance of the functions of the agency including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION: Contact Copies of the proposed information collection and supporting documents may be obtained from Michael T. Dixon, Director, Office of Defense Trade Controls Management, Directorate of Defense Trade Controls, Bureau of Political-Military Affairs, SA-1, Room H1200, 2401 E Street, NW., Washington, DC 20522-0112 (202) 663-2700.

Dated: November 14, 2003.
Gregory M. Suchan,
Deputy Assistant Secretary for Defense Trade Controls, Bureau of Political-Military Affairs, Department of State.

[FR Doc. 03-30186 Filed 12-3-03; 8:45 am]

BILLING CODE 4710-25-P